ENVIRONMENTAL PROTECTION AGENCY

40 CFR Part 52

[EPA-R04-OAR-2022-0851; FRL-10929-01-R4]

Air Plan Approval; Florida; Amendments to Stationary Sources—Emission Standards

AGENCY: Environmental Protection Agency (EPA).

ACTION: Proposed rule.

SUMMARY: The Environmental Protection Agency (EPA) is proposing to approve a portion of a State Implementation Plan (SIP) revision submitted by the State of Florida through the Florida Department of Environmental Protection (Department or FL DEP) on April 1, 2022. The portion of the SIP revision proposed for approval seeks to modify a stationary source emission standard applicable to certain fossil fuel steam generators by making several changes to provisions that regulate emissions of sulfur dioxide (SO2), nitrogen oxides (NOX), and visible emissions, and by removing certain emission limits that are either obsolete or otherwise regulated by more stringent federally enforceable conditions elsewhere. The portion of the SIP revision also seeks to modify requirements for major stationary sources of volatile organic compounds (VOC) and NOX by removing unnecessary language and certain emission limits that are obsolete. EPA is proposing to approve these changes pursuant to the Clean Air Act (CAA or Act).

DATES: Comments must be received on or before June 7, 2023.

ADDRESSES: Submit your comments, identified by Docket ID No. EPA-R04-OAR-2022-0851 at regulations.gov. Follow the online instructions for submitting comments. Once submitted, comments cannot be edited or removed from Regulations.gov. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For additional submission methods, the full EPA public comment policy, information about CBI or multimedia submissions, and general guidance on making effective comments, please visit www.epa.gov/dockets/commenting-epa-dockets.

FOR FURTHER INFORMATION CONTACT: Pearlene Williams-Miles, Multi-Air Pollutant Coordination Section, Air Planning and Implementation Branch, Air and Radiation Division, U.S. Environmental Protection Agency, Region 4, 61 Forsyth Street SW, Atlanta, GA 30303-8960. The telephone number is (404) 562-9144. Ms. Williams-Miles can also be reached via electronic mail at WilliamsMiles.Pearlene@epa.gov.

SUPPLEMENTARY INFORMATION:

I. Overview

EPA is proposing to approve changes submitted by Florida on April 1, 2022,¹ seeking to revise Rule 62-296.405, Florida Administrative Code (F.A.C.), Fossil Fuel Steam Generators with More Than 250 million Btu Per Hour Heat Input and 62-296.570 F.A.C., Reasonably Available Control Technology (RACT)—Requirements for Major VOC- and NOX-Emitting Facilities. Florida's April 1, 2022, SIP revision includes technical support materials to demonstrate that the changes and deletions to the rule will not interfere with the attainment or maintenance of any National Ambient Air Quality Standards (NAAQS), or with any other applicable requirement of the CAA. EPA's analysis of these changes in Florida's April 1, 2022, SIP revision below provides EPA's rationale for proposing approval of the changes to Rules 62-296.405 and 62-296.570.²

¹ The April 1, 2022, submittal transmits several changes to other Florida SIP-approved rules. These changes are not addressed in this document and will be considered by EPA in a separate rulemaking.

² On March 30, 2023, Florida submitted a letter to EPA withdrawing the changes to Rule 62-296.405(1)(c)1.g. and 62-296.405 (1)(d)2., from EPA's consideration. For this reason, EPA is not proposing to act on the changes to (1)(c)1.g. and (1)(d)2. The letter may be found in the docket for this proposed action.

II. Analysis of Florida's April 1, 2022, SIP Revision

A. Rule 62-296.405

Florida's April 1, 2022, SIP revision contains changes to Florida's SIP-approved rules under Chapter 62-296, Stationary Source—Emission Standards, and provides a non-interference demonstration to support these changes. The non-interference demonstration explains why the proposed changes to the SIP would not interfere with any applicable requirement concerning attainment and reasonable further progress (as defined in CAA section 171), or any other applicable requirement of the Act (i.e., how the proposed revision satisfies CAA section 110(l)). This section of the notice of proposed rulemaking will address the portion of the SIP revision that contains changes to Rule 62-296.405, Fossil Fuel Steam Generators with More Than 250-million Btu Per Hour Heat Input.

Specifically, the April 1, 2022, submission contains amendments to provisions 62-296.405(1)(a); 62-296.405(1)(c)1.; 62-296.405(1)(c)1.b. through e.; 62-296.405(1)(c)1.h. through i.; 62-296.405(1)(c)2.a., b., and d.; 62-296.405(1)(c)3.; 62-296.405(1)(d)3..; 62-296.405(1)(e); and 62-296.405(2). These provisions regulate emissions of SO2, NOX, and visible emissions from certain fossil fuel-fired steam generators with more than 250 million British Thermal Units (MMBtu) per hour heat input. As described below, the changes to these provisions revise a visible emissions limitation and clarify to whom the results of visible emissions testing must be submitted. The changes also remove outdated language, including emission limits for sources that have shut down or have more stringent federally enforceable limits, add specific citations for EPA test methods, and make minor wording edits. These changes do not allow for any pollutant emission increases because they only remove certain SIP rules that are either obsolete or less stringent than other applicable regulations, and revise other rules in a way that does not lessen stringency.

i. Analysis of Amendments to Visible Emissions Provisions at Rule 62-296.405(1)(a)

Subparagraph 296.405(1)(a) requires subject sources to comply with a visible emissions limit of 20 percent opacity. However, the rule also allows sources two options for exceeding 20 percent opacity: one six-minute period per hour during which opacity cannot exceed 27 percent, or one two-minute period per hour during which opacity cannot exceed 40 percent. The rule requires that the option selected by the source be specified in the source's construction and operation permits. The option allowing opacity of no more than 40 percent over a two-minute average stems from, and was consistent with, Florida DEP Method 9, which measured opacity on a two-minute average; however, Florida removed this method from its state rules on July 10, 2014. The option allowing one exceedance per hour of an opacity up to 27 percent over a six-minute average stems from, and is consistent with, EPA Method 9, which measures opacity on a two-minute average. The two options are approximately equivalent on a six-minute average, as affirmed by the State.³ The SIP revision removes the option that provides an exception of no more than 40 percent opacity over a two-minute period per hour. EPA is proposing to approve this change because Florida has removed DEP Method 9 from the state rules, and because the exception is approximately equivalent to the 27 percent exception that remains in the rule.

³ See the March 17, 2023, EPA memorandum to the file and docket re: FL-167-1, April 1, 2022; DEP Method 9. This memorandum memorializes a conversation between EPA and FL DEP during which Florida confirmed that the difference between the two options is negligible since the data points are measured by a human observer in five percent increments.

Subparagraph 296.405(1)(a) is also revised to remove the word “compliance” from the phrases “test for particulate emissions compliance annually” and “test for particulate matter emissions compliance quarterly” in the context of required periodic testing requirements. These revisions alter neither the SIP requirements for periodic particulate matter testing nor the availability of such testing results for compliance determination purposes.

Subparagraph 62-296.405(1)(a) is also revised to add that the results of required visible emissions tests must be submitted to “the local program” instead of the Department if submission to the local program is specified in the facility's permit. EPA believes this addition is appropriate because Florida's eight local air programs take lead responsibility for air compliance and enforcement activities in their counties, and it ensures consistency with the relevant permit requirements.

ii. Analysis of Amendments to SO2 Provisions at Rule 62-296.405(1)(c)

Subparagraph 62-296.405(1)(c) contains SO2 emission limit requirements for the existing emissions units covered by the rule. Subparagraph (1)(c)1., which provides emission limits for sources that burn liquid fuel, is being revised to remove the extraneous text “Stations—2.5 pounds per million Btu heat input.” This phrase is not linked to any specific emissions units, but rather, as explained in Florida's April 1, 2022, SIP submittal, was inadvertently retained when the rest of a former version of provision 62-296.405(1)(c)1.a., F.A.C. was deleted from the State's rules. The text intended for deletion from the State's rules reads, “Duval County north of Heckscher Drive excluding Jacksonville Electric Authority Northside Generating Stations—2.5 pounds per mission Btu heat input.” However, the words “Stations—2.5 pounds per million Btu heat input” were unintentionally submitted to EPA and approved into the SIP. Because this text is detached from the units it once applied to, EPA is proposing to approve its removal.

In addition to this change, FL DEP requests the removal of several subparagraphs from Rule 62-296.405 because they contain SO2 limits for emissions units that no longer exist or that have more stringent federally enforceable requirements.

The first subparagraph FL DEP requests the removal of is subparagraph (1)(c)1.b. Subparagraph (1)(c)1.b. regulates emission units in Duval County burning liquid fuel with a nameplate generating capacity of less than 160 megawatts (MW), and which commenced operation prior to October 1, 1964. The provision limits SO2 emissions from these units to 1.10 pounds per million Btu heat input (lbs/MMBtu). This subparagraph is proposed for removal from the Florida SIP because it is applicable only to Jacksonville Electric Authority (JEA) Southside Units 4 and 5, which were permanently shut down on October 31, 2001, and JEA Kennedy Units 7, 8, and 9, which were permanently shut down on October 30, 2000. Since these units are shut down and there are no existing emissions units potentially subject to subparagraph (1)(c)1.b., its removal will not increase SO2 emissions. Therefore, EPA is proposing to remove this subparagraph.

The second subparagraph FL DEP requests the removal of is subparagraph (1)(c)1.c. Subparagraph (1)(c)1.c. limits SO2 emissions from all existing subject units burning liquid fuel in Duval County other than those covered by subparagraphs (1)(c)1.a. or (1)(c)1.b. to 1.65 lbs/MMBtu. However, there are no longer any existing emissions units ⁴ in Duval County that subparagraph (1)(c)1.c. would apply to. Since there are no longer any existing emissions units subject to or potentially subject to subparagraph (1)(c)1.c., its removal will not increase SO2 emissions. Therefore, EPA is proposing to remove this subparagraph.

⁴ In SIP-approved Rule 62-210.200, Definitions, “Existing Emissions Unit” means an emission unit which was in existence, in operation, or under construction, or had received a permit to begin construction prior to January 18, 1972. See 62-210.200(134). An emission unit is not subject to this rule if the unit was modified or reconstructed on or after January 18, 1972.

The third subparagraph FL DEP requests the removal of is subparagraph (1)(c)1.d. Subparagraph (1)(c)1.d. limits SO2 emissions from Hillsborough County units south of State Highway 60 burning liquid fuel with a nameplate generating capacity of less than 100 MW, and which commenced operation prior to June 1, 1955, to 1.1 lbs/MMBtu. This subparagraph is applicable only to Tampa Electric Company (TECO) Gannon and Hooker's Point emission units which have shut down. The dates of the various TECO emission units' permanent shutdowns are shown in Table 1, below.

Table 1—Shutdown Dates of TECO Gannon and Hooker's Point Units
Emissions unit (EU) | Permanent shut down date
TECO Gannon EU 1 | 4/16/2003
TECO Gannon EU 2 | 4/15/2003
TECO Gannon EU 3 | 11/1/2003
TECO Gannon EU 4 | 10/12/2003
TECO Hooker's Point EUs 1-6 | 1/1/2003

Since these units have shut down and there are no existing emissions units potentially subject to subparagraph (1)(c)1.d., its removal will not increase SO2 emissions. Therefore, EPA is proposing to remove this subparagraph.

The fourth subparagraph FL DEP requests the removal of is subparagraph (1)(c)1.e. Subparagraph (1)(c)1.e. limits SO2 emissions from Escambia County's units north of Interstate 10 burning liquid fuel with a nameplate generating capacity of less than 50 MW, and which commenced operation prior to October 1, 1952, to 1.98 lbs/MMBtu. This subparagraph is applicable only to the Gulf Power Crist Units 1-3, which were permanently shut down on December 31, 2005. Since these units have shut down and there are no emissions units potentially subject to subparagraph (1)(c)1.e., its removal will not increase SO2 emissions. Therefore, EPA is proposing to remove this subparagraph.

The fifth subparagraph FL DEP requests the removal of is subparagraph (1)(c)1.h. Subparagraph (1)(c)1.h. limits SO2 emissions from the units in Leon and Wakulla Counties burning liquid fuel with a nameplate generating capacity of less than 260 MW, and for which a valid Department operating permit was issued prior to November 1, 1977, to 1.87 lbs/MMBtu. This subparagraph is applicable only to City of Tallahassee Hopkins and Purdom units which were permanently shut down. The dates of the various City of Tallahassee Hopkins and Purdom emission units' permanent shutdowns are shown in Table 2, below.

Table 2—Shutdown Dates of City of Tallahassee Hopkins and Purdom Units
Emission unit (EU) | Permanent shut down date
COT Hopkins EU 1 | 11/17/2018
COT Hopkins EU 3 | 6/1/2017
COT Hopkins EU 4 | 2/9/2008
COT Purdom EU 5 and 6 | 8/4/2000
COT Purdom EU 7 | 12/31/2013

Since these units have shut down and there are no existing emissions units potentially subject to subparagraph (1)(c)1.h., its removal will not increase SO2 emissions. Therefore, EPA is proposing to remove this subparagraph.

The sixth subparagraph FL DEP requests the removal of is subparagraph (1)(c)1.i. Subparagraph (1)(c)1.i. limits SO2 emissions from the units in Dade, Broward, and Palm Counties burning liquid fuel with a nameplate generating capacity of less than 170 MW, and which commenced operation prior to May 1, 1958, to 1.1 lbs/MMBtu (except in the event of a fuel or energy crisis declared by the Governor of Florida or the President of the United States, in which case the limit is 2.75 lbs/MMBtu). This subparagraph is applicable only to Florida Power and Light (FP&L) Cutler, Lauderdale, and Riviera Beach units, the last of which was permanently shut down on May 21, 2013. The dates of the various FP&L Cutler, Lauderdale, and Riviera Beach emission units' permanent shutdowns are shown in Table 3, below.

Table 3—Shutdown Dates of FP&L Cutler, Lauderdale, and Riviera Beach Units
Emission unit (EU) | Permanent shut down date
FP&L Cutler Unit EU 1 | 6/29/1982
FP&L Cutler Unit EU 3 and 4 | 5/21/2013
FP&L Lauderdale Unit EU 1 | 10/7/1991
FP&L Lauderdale Unit EU 2 | 10/14/1991
FP&L Riviera Beach EU 1 | 9/1/1995
FP&L Riviera Beach EU 2 | 8/5/1996

Since these units have shut down and there are no existing emissions units potentially subject to subparagraph (1)(c)1.i., its removal will not increase SO2 emissions. Therefore, EPA is proposing to remove this subparagraph.

The seventh subparagraph FL DEP requests the removal of is subparagraph (1)(c)2.a. Subparagraph (1)(c)2.a. limits SO2 emissions from Hillsborough County's units burning solid fuel with a nameplate generating capacity of greater than 120 MW and which commenced operation prior to November 1, 1967, to 2.4 lbs/MMBtu on a weekly average. The provision also limits any group of such emissions units located on one or more contiguous or adjacent properties (i.e., collectively) to 10.6 tons of SO2 per hour on a weekly average. This subparagraph is applicable only to TECO Gannon units which were permanently shut down. The dates of the various TECO Gannon units' permanent shutdowns are shown in Table 4, below.

Table 4—Shutdown Dates of TECO Gannon Units
Emission unit (EU) | Permanent shut down date
TECO Gannon EU 1 | 4/16/2003
TECO Gannon EU 2 | 4/15/2003
TECO Gannon EU 3 | 11/1/2003
TECO Gannon EU 4 | 10/12/2003
TECO Gannon EU 5 | 1/30/2003
TECO Gannon EU 6 | 9/30/2003

Since these units have shut down and there are no existing emissions units potentially subject to subparagraph (1)(c)2.a., its removal will not increase SO2 emissions. Therefore, EPA proposes to remove this subparagraph.

The eighth subparagraph FL DEP requests the removal of is subparagraph (1)(c)2.b. Subparagraph (1)(c)2.b. limits SO2 emissions from units in Hillsborough County burning solid fuel with a nameplate generating capacity of greater than 400 MW, and which commenced operation after November 1, 1967, and prior to June 1, 1976, to 6.5 lbs/MMBtu over a two-hour average.⁵ This subparagraph is applicable only to TECO Big Bend Units 1, 2, and 3. However, Unit 1 was permanently shut down on June 1, 2020, and Unit 2 was permanently shut down on November 30, 2021. For TECO Big Bend Unit 3, subparagraph (1)(c)2.b. yields an allowable SO2 emission rate of 26,747.5 pounds per hour (lbs/hr) based on the limit of 6.5 lbs/MMBtu and a unit heat input capacity of 4,115 MMBtu/hr.⁶ The TECO Big Bend facility is also subject to a source-specific SO2 emissions cap of 2,156 lbs/hr for all of the TECO Big Bend units combined, which was approved into the SIP as a source-specific SIP revision in 2019.7 8 This emissions cap, even though averaged over a 30-day period, is significantly more stringent than the subparagraph (1)(c)2.b. emission limit. For example, under subparagraph (1)(c)2.b., a unit is allowed to emit 963 tons of SO2 in just three days, which is more than the total allowed in 30 days under the source-specific SO2 emissions cap, 776 tons. Therefore, because the TECO Big Bend units are either permanently shut down or are subject to another more stringent SO2 limit in the SIP, EPA is proposing to remove this subparagraph.

⁵ The provision also limits SO2 emissions from a group of units located on one or more contiguous or adjacent properties and which are under common control (i.e., collectively) to 31.5 tons per hour (tons/hr) over a 3-hour average and 25 tons/hr over a 24-hour average. However, considering that Units 1 and 2 have been permanently shut down, these caps are less stringent than the single unit limit of 13.4 tons/hr (26,747.5 lbs/hr).

⁶ The heat capacity at Unit 3 is included in Permit No. 0570039-120-AC, which may be found at https://fldep.dep.state.fl.us/air/emission/apds/default.asp.

⁷ See 84 FR 60927 (November 12, 2019).

⁸ Florida's submission also references Permit No. 0570039-129-AC, which is currently pending incorporation into Florida's Regional Haze SIP. However, since this permit is not yet incorporated into the SIP, EPA is relying on the 2019 source-specific and SIP-approved emissions cap, as described.

The ninth subparagraph FL DEP requests the removal of is subparagraph (1)(c)2.d. Subparagraph (1)(c)2.d. limits SO2 emissions from units burning solid fuel in all other areas of the State to 6.17 lbs/MMBtu. This subparagraph is only applicable to Gulf Power Scholz Units 1 and 2, which were permanently shut down on April 16, 2015. Since these units have shut down and there are no existing emissions units potentially subject to subparagraph (1)(c)2.d., its removal will not increase SO2 emissions. Therefore, EPA is proposing to remove this subparagraph.

Finally, subparagraph (1)(c)3. requires owners of fossil fuel steam generators to monitor their emissions and the effects of the emissions on ambient concentrations of SO2 in a particular manner and frequency, and at locations approved and deemed reasonably necessary and ordered by the Department. FL DEP notes that the monitoring of stack emissions is regulated by SIP-approved Chapter 62-297, F.A.C., Stationary Sources—Emissions Monitoring, and views subparagraph (1)(c)3. as a discretionary ambient SO2 monitoring provision that is no longer needed in the SIP. FL DEP explains that the State has the authority and capability of setting up ambient air quality monitoring stations as needed. In addition, Rule 62-212.400(7) F.A.C., requires that the owner or operator of a major stationary source or major modification under the prevention of significant deterioration program provide any required monitoring and analysis as required in 40 CFR 52.21(m). EPA agrees that Florida operates an approved plan for monitoring compliance with the SO2 NAAQS and may require owners of fossil fuel steam generators to conduct ambient monitoring as needed when constructing or modifying emissions units. For these reasons, EPA is proposing to approve removal of this subparagraph from the SIP.

iii. Analysis of Amendments to NOX Provisions at Rule 62-296.405(1)(d)

FL DEP's April 1, 2022, submission requests the removal of subparagraph (1)(d)3. Subparagraph (1)(d)3. limits NOX emissions from unit in Leon County with a nameplate generating capacity of greater than 200 MW, and for which a valid Department operating permit was issued prior to November 1, 1977, to 0.30 lbs/MMBtu. This subparagraph applies only to the City of Tallahassee's Hopkins Boiler 2, which was permanently shut down on February 9, 2008. Since this unit has shut down and there are no emissions units potentially subject to subparagraph (1)(d)3., its removal will not increase NOX emissions. Therefore, EPA is proposing to remove this subparagraph.

iv. Analysis of Amendments to Test Methods and Procedures Provisions at Rule 62-296.405(1)(e)

Florida's SIP revision seeks to revise subparagraph 62-296.405(1)(e) by adding specific citations for EPA test methods and removing outdated language. This will not result in increased emissions or change any existing requirements; therefore, EPA is proposing to approve the changes to this subparagraph. These revisions are summarized as follows:

(1) The changes replace the reference to repealed FL DEP Method 9 with EPA Method 9, as described at 40 CFR part 60, appendix A-4, and adopted by reference at Rule 62-204.800,⁹ as the test method for visible emissions. The changes also add that the State has adopted and incorporated by reference 40 CFR part 75 at Rule 62-204.800.

⁹ Rule 62-204.800 adopts and incorporates by reference Federal rules cited throughout FL DEP's air pollution rules.

(2) The changes remove a redundant and unnecessary statement that an owner or operator may use EPA Method 5 to demonstrate compliance. The changes also specify where the applicable test methods are found in the Federal rules as follows: Methods 3 and 3A are described at 40 CFR part 60, appendix A-2; Methods 5, 5B, and 5F are described at 40 CFR part 60, appendix A-3; Method 17 is described at 40 CFR part 60, appendix A-6; and Method 19 is described at 40 CFR part 60, appendix A-7. In addition, the changes update the rule by stating that the State has adopted and incorporated these methods by reference at Rule 62-204.800, F.A.C., rather than Chapter 62-297, F.A.C., due to the repeal of Rule 62-297.401, Compliance Test Methods, which EPA previously removed from the SIP. See 83 FR 13875 (April 2, 2018).

(3) The changes specify that the SO2 test methods—EPA Methods 6, 6A, 6B and 6C—are “as described at 40 CFR part 60, Appendix A-4” and that these methods are adopted and incorporated by reference at Rule 62-204.800, F.A.C., rather than Chapter 62-297, F.A.C.

(4) The changes specify that the NOX test methods—EPA Methods 7, 7A, or 7E—are “as described at 40 CFR part 60, Appendix A-4, adopted and incorporated by reference at Rule 62-204.800, F.A.C.” This phrase replaces the reference to Chapter 62-297. The changes also add that the State has adopted and incorporated by reference 40 CFR parts 60, 75, and 76 at Rule 62-204.800.

v. Analysis of Amendments to New Emission Units Provisions at Rule 62-296.405(2)

FL DEP is requesting the removal of subsection 62-296.405(2), which reads as follows: 62-296.405(2) New Emissions Units.

(a) Visible Emissions—(See subsection 62-204.800(7), F.A.C., and 40 CFR 60.42 and 60.42a).

(b) Particulate Matter—(See subsection 62-204.800(7), F.A.C., and 40 CFR 60.42 and 60.42a).

(c) Sulfur Dioxide—(See subsection 62-204.800(7), F.A.C., and 40 CFR 60.43 and 60.43a).

(d) Nitrogen Oxides—(See subsection 62-204.800(7), F.A.C., and 40 CFR 60.44 and 60.44a).

This subparagraph lists visible emissions and three air pollutants, particulate matter, SO2, and NOX, and the federal new source performance standards (NSPS), adopted and incorporated by reference by Florida in Rule 62-204.800, that regulate these pollutants for certain electric utility steam generating units.¹⁰ This subparagraph merely identifies the federal NSPS that are applicable to certain fossil fuel steam generators and the Florida rule that incorporates the relevant federal NSPS by reference. This subparagraph does not need to be in the Florida SIP because the NSPS requirements are independently applicable and federally enforceable. Sources that are subject to these Federal requirements must comply with them regardless of whether this subparagraph is in the SIP. Thus, EPA proposes to remove subsection 62-296.405(2) from the SIP.

¹⁰ Rule 62-296.405(2) lists the NSPS at 40 CFR 60.42, 60.42a, 60.43, 60.43a. 60.44, and 60.44a. EPA amended and renumbered 60.42a, 60.43a, and 60.44a as 60.42Da, 60.43Da, and 60.44Da on June 13, 2007 (72 FR 32710).

EPA has evaluated the State's non-interference demonstration and is proposing to find that the changes to Rule 62-296.405 would not interfere with any requirement concerning attainment and RFP, or any other applicable requirement of the CAA for the reasons discussed above.

B. Rule 62-296.570

The April 1, 2022, submission removes obsolete provisions in Rule 62-296-570, Reasonably Available Control Technology (RACT)—Requirements for Major VOC- and NOX-Emitting Facilities and makes changes to clarify the intent of the Rule and update certain cross-references. FL DEP developed Rule 62-296.570 to implement VOC and NOX RACT for existing major sources of VOC and NOX in its then moderate ozone nonattainment area—the South Florida Area (consisting of Broward, Dade, and Palm Beach Counties)—as required by CAA section 182.¹¹ After EPA redesignated the South Florida Area to attainment, Florida revised its RACT rules such that Rule 62-296.570 now applies to the South Florida maintenance area.¹²

¹¹ See 60 FR 2688, 2689 (January 11, 1995) (approving Florida's January 8, 1993, SIP revision and noting that Florida's RACT rule “applies to the 1990 Clean Air Act Amendment requirement for RACT for existing major sources of VOCs and NOX in Florida's moderate non-attainment area.”). The fact that Rule 62-296.570 applies solely to existing units is further evidenced by language in Florida's January 8, 1993 SIP revision (available in the docket for this proposed action), the May 31, 1995, compliance date in Rule 62-296.570(4)(a)1, and the exclusion of new and modified major VOC- and NOX emitting facilities subject to major new source review through Rule 62-296.570(1)(a) (referencing Rule 62-296.500(1)(b)).

¹² See 60 FR 10325 (February 24, 1995) (redesignating the South Florida Area to attainment); 64 FR 32346 (June 16, 1999).

Subparagraph 62-296.570(1)(b) is revised to clarify the intent of the rule. Chapter 62-296.570 establishes requirements for major VOC- and NOX-emitting facilities. The following text is added to subparagraph (1)(b) to clarify that the rule requirements do not apply to activities considered insignificant for title V permitting purposes: “or that would otherwise be considered insignificant pursuant to Rule 62-213.300(2)(a)1., F.A.C., or Rule 62-213.430(6)(b), F.A.C[,],”. Insignificant activities are not considered major emitting activities for the purposes of a title V permitting, so this text is clarifying that the rule does not apply to insignificant activities.

Paragraph 62-296.570(3) is proposed for removal from the SIP. Currently, subparagraph 62-296.570(3)(a) requires an owner or operator of any emission unit subject to the Rule to apply for a new or revised permit to operate in accordance with 62-296.570 by March 1, 1993, unless a later filing date is specified by FL DEP in writing. Subparagraph (3)(b) extends the expiration date of existing operation permits for any emission unit subject to the requirements of this rule if the existing permit would expire between the effective date of the section and March 1, 1993, or any later filing date specified by the Department, unless a permit is revoked or suspended. All affected facilities already have operating permits and the date for compliance with this rule has passed; therefore, these rules are no longer needed in the SIP.

Subparagraphs 62-296.570(4)(a)1. and 2. are also proposed for removal from the SIP. Currently, subparagraph 62-296.570(4)(a)1. requires applicants for a new or revised operation permit for an emissions unit subject to the rule to propose a schedule implementing RACT emission limiting standards no later than May 31, 1995. Further, the emissions unit must demonstrate compliance with the RACT emission limiting standards in accordance with the schedule specified in its air operation permit. Subparagraph (4)(a)2. requires that fuel specific NOX and VOC emission limits established under Rule 62-296.570 are incorporated into the new or revised operation permit for each emissions unit and become effective in accordance with the terms of the permit. All affected facilities were those outlined in paragraphs 62-296.570(3)(a) and (b). The requirements in subparagraphs (4)(a)1. and (4)(a)2 have already been met for those operating permits and the date for compliance with the subparagraphs has passed; therefore, these rules are no longer needed in the SIP and their removal will not alter current regulatory requirements.

Subparagraph 62-296.570(4)(b)1. is proposed for removal from the SIP. Currently, subparagraph 62-296.570(4)(b)1. requires that emissions of NOX from any rear wall-fired, forced circulation, 16-burner, compact furnace shall not exceed 0.20 lb/MMBtu while firing natural gas, and 0.36 lb/MMBtu while firing oil. However, the emission units subject to the provision, FP&L Port Everglades Units 1 and 2, were permanently shut down. Further, as discussed above, since the Rule only applies to existing emission units, this subparagraph does not apply to any future units. Additionally, any future major units would undergo major new source review under Chapter 62-212. For these reasons, this subparagraph is no longer needed in the SIP.

Subparagraph 62-296.570(4)(b)2. is proposed for removal from the SIP. Currently, subparagraph 62-296.570(4)(b)2. requires that NOX emissions from any front wall fired, natural circulation, 18-burner, compact furnace shall not exceed 0.40 lb/MMBtu while firing natural gas and 0.53 lb/MMBtu while firing oil. However, the emission units subject to this provision, FP&L Port Everglades Units 3 and 4, and Turkey Point Units 1 and 2, were permanently shut down. Further, since the Rule only applies to existing emission units, this subparagraph does not apply to any future units. Additionally, any future major units would undergo major new source review under Chapter 62-212. For these reasons, this rule subparagraph is no longer needed in the SIP.

Subparagraph 62-296.570(4)(b)3. is proposed for removal from the SIP. Currently, subparagraph 62-296.570(4)(b)3. requires that NOX emissions from any front wall fired, natural circulation, 24-burner, compact furnace shall not exceed 0.50 lb/MMBtu while firing natural gas and 0.62 lb/MMBtu while firing oil. However, the emission units subject to this provision, FP&L Riviera Beach Units 3 and 4, were permanently shut down. Further, since the Rule only applies to existing emission units, this subparagraph does not apply to any future units. Additionally, any future major units would undergo major new source review under Chapter 62-212. For these reasons, this subparagraph is no longer needed in the SIP.

Subparagraph 62-296.570(4)(b)4. is proposed for removal from the SIP. Currently, subparagraph 62-296.570(4)(b)4. requires that NOX emissions from any tangentially fired, low heat release, large furnace shall not exceed 0.20 lb/MMBtu while firing natural gas. However, the emission units subject to this provision, FP&L Cutler Units 3 and 4, were permanently shut down. Further, since the Rule only applies to existing emission units, this subparagraph does not apply to any future units. Additionally, any future major units would undergo major new source review under chapter 62-212. For these reasons, this rule subparagraph is no longer needed in the SIP.¹³

¹³ EPA is not proposing to approve the change to subparagraph 62-296.570(4)(b)9. transmitted in the April 1, 2022, submittal in this document, and will address this change in a separate action.

Subparagraph 62-296.570(4) is further revised to update cross-references and to clarify that not all testing is for determining compliance. The first language change replaces the word “Compliance” in the phrase “Compliance Dates and Monitoring” in (4)(a) to “Emissions Testing.” Another language change removes the phrase “compliance with the emission limits established in this rule shall be demonstrated by” as unnecessarily descriptive text in subparagraph (4)(a)3. A reference update in the revision removes the cross-reference to Rule 62-297.401, Compliance Test Methods, which as noted previously, EPA has removed from the SIP.¹⁴ This cross-reference described the applicable EPA reference methods used to conduct annual emissions testing for emission units not equipped with continuous emission monitoring systems for NOX or VOCs. Florida replaces this cross-reference with the phrase “as described in 40 CFR part 60, Appendices A-1 through A-8, adopted and incorporated by reference at Rule 62-204.800”. Florida makes these same cross-reference changes to paragraph (4)(b)9.

¹⁴ See 83 FR 13875 (April 2, 2018).

EPA has evaluated the State's non-interference demonstration and is proposing to find that the changes to Rule 62-296.570 would not interfere with any requirement concerning attainment and RFP, or any other applicable requirement of the CAA for the reasons discussed above.

III. Incorporation by Reference

In this document, EPA is proposing to include in a final EPA rule regulatory text that includes incorporation by reference. In accordance with the requirements of 1 CFR 51.5, as discussed in sections I and II of the preamble, EPA is proposing to incorporate by reference: Florida Rule 62-296.405, Fossil Fuel Steam Generators with More than 250 million Btu per Hour Heat Input, which modifies stationary source emission standards for fossil fuel-fired steam generators in the Florida SIP, state-effective July 10, 2014, and Florida Rule 62-296.570, Reasonably Available Control Technology (RACT)—Requirements for Major VOC- and NOX-Emitting Facilities, which modifies stationary source emission standards for major VOC and NOX facilities in the Florida SIP, state effective July 10, 2014, except for subparagraph 62-296.570(4)(b)9.¹⁵ EPA has made, and will continue to make, these materials generally available through www.regulations.gov and at the EPA Region 4 office (please contact the person identified in the “For Further Information Contact” section of this preamble for more information).

¹⁵ Subparagraph 62-296.570(4)(b)9. will remain in the SIP with a state effective date of November 23, 1994.

IV. Proposed Action

For the reasons discussed above, EPA is proposing to approve the portion of Florida's April 1, 2022, SIP revision seeking to amend Rules 62-296.405 and 62-296.570.

V. Statutory and Executive Order Reviews

Under the CAA, the Administrator is required to approve a SIP submission that complies with the provisions of the Act and applicable Federal regulations. See 42 U.S.C. 7410(k); 40 CFR 52.02(a). Thus, in reviewing SIP submissions, EPA's role is to approve state choices, provided that they meet the criteria of the CAA. This action merely proposes to approve state law as meeting Federal requirements and does not impose additional requirements beyond those imposed by state law. For that reason, this proposed action:

• Is not a significant regulatory action subject to review by the Office of Management and Budget under Executive Orders 12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

In addition, the SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The air agency did not evaluate EJ considerations as part of its SIP submittal; the CAA and applicable implementing regulations neither prohibit nor require such an evaluation. EPA did not perform an EJ analysis and did not consider EJ in this proposed action. Due to the nature of the action being proposed here, this proposed action is expected to have a neutral to positive impact on the air quality of the affected area. Consideration of EJ is not required as part of this proposed action, and there is no information in the record inconsistent with the stated goal of E.O. 12898 of achieving EJ for people of color, low-income populations, and Indigenous peoples.

List of Subjects in 40 CFR Part 52

Environmental protection, Air pollution control, Incorporation by reference, Intergovernmental relations, Nitrogen dioxide, Particulate matter, Reporting and recordkeeping requirements, Volatile organic compounds.

Authority: 42 U.S.C. 7401 et seq.

Dated: April 27, 2023.
Daniel Blackman,
Regional Administrator, Region 4.

[FR Doc. 2023-09328 Filed 5-5-23; 8:45 am]

BILLING CODE 6560-50-P